ENVIRONMENTAL PROTECTION AGENCY

[ER-FRL-6678-3]

Environmental Impacts Statements; Notice of Availability

Responsible Agency: Office of Federal Activities, General Information (202) 564-7167 or http://www.epa.gov/compliance/nepa/.

Weekly receipt of Environmental Impact Statements

Filed 08/07/2006 through 08/11/2006.

Pursuant to 40 CFR 1506.9.

EIS No. 20060335, Draft EIS, FHW, NH, Spaulding Turnpike Improvements Project, Reconstruction and Widening of a 3.5-mile Section from U.S. Route 4 and NH Route 16, U.S. Coast Guard Bridge Permit, NPDES Permit and U.S. Army COE Section 404 Permit, Town of Newington, City of Dover, Strafford and Rockingham Counties, NH, Comment Period Ends: 10/02/2006. Contact: William F. O'Donnell 603-228-3057 x 101.

EIS No. 20060336, Final EIS, NPS, CA, Non-Native Deer Management Plan of Axis Deer (Axis axis) and Fallow Deer (Dama dama), Implementation, Point Reyes National Seashore (PRNS) and Golden Gate National Recreation Area, Marin County, CA, Wait Period Ends: 09/18/2006, Contact: Natalie Gates 415-464-5189.

EIS No. 20060337, Draft Supplement, COE, FL, Lake Okeechobee Regulation Schedule Study, Updated Information on Operational Changes to the Current Water Control Plan, Caloosahatchee and St. Lucie River Estuaries, Lake Okeechobee, FL, Comment Period Ends: 10/02/2006, Contact: Yvonne Haberer 904-232-1701.

EIS No. 20060338, Draft Supplement, FHW, MT, U.S. 93 Highway Ninepipe/Ronan Improvement Project, from Dublin Gulch Road/Red Horn Road, Funding, Special-Use-Permit, NPDES Permit and U.S. Army COE Section 404 Permit, Lake County, MT, Comment Period Ends: 10/06/2006, Contact: Theodore Burch 406-449-5302.

EIS No. 20060339, Final EIS, FRA, 00, Adoption—Powder River Basin Expansion Project, Construction of New Rail Facilities, Finance Docket No. 33407 Dakota, Minnesota and Eastern Railroad, SD, WY and MN, Wait Period Ends: 09/18/2006, Contact: David Valenstein 202-493-6368.

Federal Railroad Administration has adopted the Surface Transportation Board's, FEIS #200010444 filed 11/20/2001 and FSEIS #20050553 file 12/30/2005. FRA was not a Cooperating Agency on the above FEIS. Under Section 1506.3(b) of the CEQ Regulations, the FEIS and FSEIS must be Recirculated for a 30-day Wait Period.

EIS No. 20060340, Draft EIS, AFS, 00, Custer National Forest Weed Management, To Implement Specific Invasive Weed Treatments, Carbon, Stillwater, Sweetgrass, Park, Powder River, Rosebud and Carter Counties, MT and Harding County, SD, Comment Period Ends: 10/02/2006, Contact: Kim Reid 406-657-6205 x233.

EIS No. 20060341, Final EIS, AFS, ID, Three Basins Timber Sale Project, Proposal to Treat 760 Acres of Mature Forest, Implementation, Caribou-Targhee National Forest, Montpellier Ranger District, Bearlake and Caribou Counties, ID, Wait Period Ends: 09/18/2006, Contact: Robbin Redman 208-557-5821.

EIS No. 20060342, Draft EIS, FHW, WA, WA-520 Bridge Replacement and HOV Project, Replace WA-520's Portage Bay and Evergreen Point Bridges and Improve Roadway between I-5 in Seattle and Bellevue Way or 108th Avenue Northeast on the Eastside, U.S. Coast Guard Permit and U.S. Army COE Section 10 and 404 Permits, King County, WA, Comment Period Ends:10/02/2006, Contact: Paul Krueger 206-381-6432.

EIS No. 20060343, Draft EIS, WPA, SD, White Wind Farm Project, Construct a Large Utility-Scale Wind-Powered Electric Energy Generating Facility, Sherman Township, Brookings County, SD, Comment Period Ends: 10/02/2006, Contact: Mark Wieringa 720-962-7448.

Amended Notices

EIS No. 20060265, Draft EIS, EPA, ND, Mandan, Hidatsa and Arikara (MHA) Nation's Proposed Clean Fuels Refinery Project, Construct and Operate a New 15,000 Barrel Per Day Clean Fuels Refinery and Grow Hay for Buffalo, Fort Berthold Indian Reservation, Ward County, ND, Comment Period Ends:09/14/2006, Contact: Dana Allen 303-312-6870.

This document is available on the Internet at: http://www.epa.gov/region8/compliance/nepa.

Revision of FR Notice Published 06/30/2006: Extending Comment Period from 08/29/2006 to 09/14/2006.

EIS No. 20060278, Draft EIS, NOA, 00, North Atlantic Right Whale Ship Strike Reduction Strategy, To Implement the Operational Measures to Reduce the Occurrence and Severity of Vessel Collisions with the Right Whale, Serious Injury and Deaths Resulting from Collisions with Vessels, Comment Period Ends: 10/05/2006, Contact: Stewart Harris 301-713-2322.

Revision of FR Notice Published 07/07/2006. Extending Comment Period from 09/05/2006 to 10/05/2006.

EIS No. 20060309, Draft EIS, NOA, 00, Pacific Coast Groundfish Fishery Management Plan, Proposed Acceptable Biological Catch and Optimum Yield Specifications and Management Measures for the 2007-2008 Pacific Coast Groundfish Fishery and Amendment 16-4 Rebuilding Plans for Seven Depleted Pacific Coast Groundfish Species, WA, OR and CA, Comment Period Ends: 09/11/2006, Contact: Robert Lohn 206-526-6150.

Revision of FR Notice Published 07/28/2006: Correction to Telephone Number.

Dated: August 15, 2006.
Ken Mittelholtz,
Environmental Protection Specialist, Office of Federal Activities.

[FR Doc. E6-13662 Filed 8-17-06; 8:45 am]

BILLING CODE 6560-50-P